ENVIRONMENTAL PROTECTION AGENCY

40 CFR Part 60

[EPA-HQ-OAR-2011-0660; FRL-9668-9]

Standards of Performance for Greenhouse Gas Emissions for New Stationary Sources: Electric Utility Generating Units

AGENCY: Environmental Protection Agency (EPA).

ACTION: Proposed rule; notice of public hearings.

SUMMARY: The EPA published in the Federal Register on April 13, 2012, the proposed rule, “Standards of Performance for Greenhouse Gas Emissions for New Stationary Sources: Electric Utility Generating Units.” The EPA is making two announcements: first, two public hearings will be held for the proposed Standards of Performance for Greenhouse Gas Emissions for New Stationary Sources: Electric Utility Generating Units, and, second, the comment period for this rulemaking will be extended until June 25, 2012.

DATES: The public hearings will be held on May 24, 2012.

ADDRESSES: There will be two public hearings held on May 24, 2012. The Washington, DC hearing will be held at the Ariel Rios East Building, in Room 1153 located at 1301 Constitution Avenue, Washington, DC 20460; telephone (202) 564-1661. The Chicago, Illinois hearing will be held at the Ralph H. Metcalfe Federal Building in the Lake Michigan Room (12th Floor) located at 77 West Jackson, Chicago, Illinois 60603, telephone (312) 886-9404.

For both the Washington, DC and Chicago, Illinois hearings, visitors must go through a metal detector, sign in with the security desk, be accompanied by an employee and show photo identification to enter the building.

The public hearing in Washington, DC will convene at 8:30 a.m. and will continue until 4:30 p.m. A lunch break is scheduled from 12:00 p.m. until 1:00 p.m. The EPA plans to conclude the hearing at 4:30 p.m. All Washington, DC times are Eastern Daylight Time (EDT). The public hearing in Chicago will convene at 8:30 a.m. and will continue until 4:30 p.m. A lunch break is scheduled from 12:00 p.m. until 1:00 p.m. The EPA plans to conclude the hearing at 4:30 p.m. All Chicago times are Central Daylight Time (CDT). The EPA's Web site for the rulemaking, which includes the proposal and information about the hearings, can be found at: http://epa.gov/carbonpollutionstandard/.

FOR FURTHER INFORMATION CONTACT: If you would like to present oral testimony at the public hearing, please contact Ms. Pamela Garrett, U.S. Environmental Protection Agency, Office of Air Quality Planning and Standards, Sector Policies and Programs Division (D243-01), Research Triangle Park, North Carolina 27711; telephone: (919) 541-7966; fax number: (919) 541-5450; email address: garrett.pamela@epa.gov (preferred method for registering). The last day to register to present oral testimony in advance will be Friday May 18, 2012. If using email, please provide the following information: the time you wish to speak (morning or afternoon), name, affiliation, address, email address and telephone and fax numbers. Time slot preferences will be given in the order requests are received. Additionally, requests to speak will be taken the day of the hearings at the hearing registration desk and accommodated as time allows, although preferences on speaking times may not be able to be fulfilled. If you require the service of a translator, please let us know at the time of registration.

Questions concerning the March 27, 2012, proposed rule should be addressed to Mr. Christian Fellner, Office of Air Quality Planning and Standards, Sector Policies and Programs Division (D 243-04), Environmental Protection Agency, Research Triangle Park, North Carolina 27711; telephone number: (919) 541-4003; facsimile number: (919) 541-5450; email address: fellner.christian@epa.gov.

Public hearing: The proposal for which the EPA is holding the public hearings was published in the Federal Register on April 13, 2012 (77 FR 22392), and is available at: http://www.epa.gov/carbonpollutionstandard/ and also in the docket identified below. The public hearings will provide interested parties the opportunity to present oral comments regarding the EPA's proposed standards, including data, views or arguments concerning the proposal. The EPA may ask clarifying questions during the oral presentations, but will not respond to the presentations at that time. Written statements and supporting information submitted during the comment period will be considered with the same weight as any oral comments and supporting information presented at the public hearing.

Commenters should notify Ms. Garrett if they will need specific equipment or if there are other special needs related to providing comments at the public hearings. The EPA will provide equipment for commenters to make computerized slide presentations if we receive special requests in advance. Oral testimony will be limited to 5 minutes for each commenter. The EPA encourages commenters to submit to the docket a copy of their oral testimony electronically (via email or CD) or in hard copy form.

The public hearing schedules, including lists of speakers, will be posted on the EPA's Web site at http://www.epa.gov/carbonpollutionstandard/. Verbatim transcripts of the hearings and written statements will be included in the docket for the rulemaking. The EPA will make every effort to follow the schedule as closely as possible on the day of the hearings; however, please plan for the hearing to run either ahead of schedule or behind schedule.

How can I get copies of this document and other related information?

The EPA has established a docket for the proposed rule, “Standards of Performance for Greenhouse Gas Emissions for New Stationary Sources: Electric Utility Generating Units” under No. EPA-HQ-OAR-2011-0660, available at www.regulations.gov.

List of Subjects in 40 CFR Part 63

Environmental protection, Administrative practice and procedure, Air pollution control, Hazardous substances, Intergovernmental relations, Reporting and recordkeeping requirements.

Dated: April 30, 2012.
Mary Henigin,
Acting Director, Office of Air Quality Planning and Standards.

[FR Doc. 2012-10825 Filed 5-3-12; 8:45 am]

BILLING CODE 6560-50-P